DEPARTMENT OF LABOR

Employment and Training Administration

[NAFTA-05624]

AVX Corporation; Vancouver, WA; Notice of Negative Determination Regarding Application for Reconsideration

By application dated January 25, 2002, the company requested administrative reconsideration of the Department's negative determination regarding eligibility to apply for North American Free Trade Agreement-Transitional Adjustment Assistance (NAFTA-TAA), applicable to workers and former workers of the subject firm. The denial notice was signed on January 3, 2002, and was published in the Federal Register on January 11, 2002 (67 FR 1511).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of NAFTA-TAA for workers engaged in activities related to the production of electric capacitors at AVX Corporation, Vancouver, Washington was based on the finding that criteria (3) and (4) of the group eligibility requirements of paragraph (a)(1) of section 250 of the Trade Act, as amended, were not met. The company did not shift production of electric capacitors to Canada or Mexico and did not import electric capacitors from Canada or Mexico. The predominant cause of worker separations at the subject plant was a domestic shift of production to an affiliated facility.

The petitioner alleges that the company did not shift plant production of electric capacitors to Mexico, but that production remained in the United States. The petitioner further indicates that subject plant activities of testing, visual inspecting, packaging, quality assurance and shipping functions were shifted to Mexico.

The shift in activities related to testing, visual inspecting, packaging, quality assurance and shipping functions from the subject plant to Mexico is irrelevant, since those worker groups are engaged in support activities (non-production) rather than actual production of electric capacitors. Those workers are separately identifiable from the workers engaged in the production of electric capacitors.

The workers engaged in activities related to testing, visual inspecting, packaging, quality assurance and shipping at the subject firm do not produce an article within the meaning of section 250(a) of the Trade Act, as amended.

Conclusion

After review of the application for reconsideration and investigative findings, I conclude that there has been no error or misinterpretation of the law or of the facts which would justify reconsideration of the Department of Labor's prior decisions. Accordingly, the application is denied.

Signed at Washington, DC this 25th day of March 2002.
Edward A. Tomchick,
Director, Division of Trade Adjustment Assistance.

[FR Doc. 02-8269 Filed 4-4-02; 8:45 am]

BILLING CODE 4510-30-M